DEPARTMENT OF DEFENSE

Office of the Secretary

Reserve Forces Policy Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Reserve Forces Policy Board (RFPB) will take place.

DATES: The RFPB will hold a meeting on Wednesday, June 7, 2017, from 9:10 a.m. to 4:00 p.m. The portion of the meeting from 9:10 a.m. to 1:30 p.m. will be closed to the public. The portion of the meeting from 1:35 p.m. to 4:00 p.m. will be open to the public.

ADDRESSES: The RFPB meeting address is the Pentagon, Room 3E863, Arlington, VA.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Web site: http://rfpb.defense.gov/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 9:10 a.m. to 4:00 p.m. The portion of the meeting from 9:10 a.m. to 1:30 p.m. will be closed to the public and will consist of remarks to the RFPB from following invited speakers: The Chief, National Guard Bureau will discuss the guidance and readiness goals for the National Guard and the future role of the Army and Air Guard as part of the Total Force; the Assistant Deputy Chief of Staff for Operations, Headquarters U.S. Air Force will discuss the readiness priorities of the Air Force, the Air Force Reserve Commission initiatives, and the Air Force challenges to balance force structure, readiness and modernization while supporting operations across the globe in a fiscally constrained environment and its effects on the Reserve Components; the Deputy Chief of Naval Operations for Operations, Plans, and Strategy will discuss the key readiness priorities for the Navy and the “Operational Reserve” challenges in this period of fiscal uncertainty and increasingly challenging security environment; the Deputy Commandant Plans, Policies, and Operations, Headquarters Marine Corps will discuss the readiness challenges for the Marine Corps and the future role of the Reserve Components as part of the Total Force in this period of fiscal uncertainty and increasingly challenging security environment; and the Deputy Director Operations, Readiness, and Mobilization, Headquarters, Department of the Army will discuss the Army readiness posture, the Report of the National Commission on the Future of the Army initiatives, and plans to adapt the Total Army to meet future challenges in this period of fiscal uncertainty and increasingly challenging security environment. The portion of the meeting from 1:35 p.m. to 4:00 p.m. will be open to the public and will consist of the following briefings: The Deputy Director of the Air National Guard will discuss the Air Guard goals, readiness objectives, and challenges for the “Operational Reserve” as part of the Total Force; the Chair of the Subcommittee on Supporting and Sustaining Reserve Component Personnel will discuss the subcommittee's review of the Department of Defense's Duty Status reform proposals, the Joint Professional Military Education II Qualifications program issues, and the Reserve Joint Travel Regulation issues, as well as the proposed recommendation reports to the Secretary of Defense; the Chair of the Subcommittee on Ensuring a Ready, Capable, Available, and Sustainable Operational Reserve will discuss the subcommittee's proposed RFPB recommendation report to the Secretary of Defense from the review of the 10 U.S.C. 12304b Mobilization Authority disparity issues with Reservist's benefits and entitlements for involuntary recalls.

Meeting Accessibility: Pursuant to section 10(a)(1) of the FACA and 41 CFR 102-3.140 through 102-3.165, and subject to the availability of space, the meeting is open to the public from 1:35 p.m. to 4:00 p.m. Seating is on a first-come, first-served basis. All members of the public who wish to attend the public meeting must contact Mr. Alex Sabol, the Designated Federal Officer, not later than 12:00 p.m. on Tuesday, June 6, 2017, as listed in the FOR FURTHER INFORMATION CONTACT section to make arrangements for a Pentagon escort, if necessary. Public attendees requiring escort should arrive at the Pentagon Metro Entrance with sufficient time to complete security screening no later than 1:00 p.m. on June 7. To complete the security screening, please be prepared to present two forms of identification. One must be a picture identification card. In accordance with section 10(d) of the FACA, 5 U.S.C. 552b(c), and 41 CFR 102-3.155, the DoD has determined that the portion of this meeting scheduled to occur from 9:10 a.m. to 1:30 p.m. will be closed to the public. Specifically, the Under Secretary of Defense (Personnel and Readiness), in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's Web site.

Dated: May 18, 2017.
Aaron Siegel,
Alternate OSD Federal Register Liaison Officer, Department of Defense.

[FR Doc. 2017-10538 Filed 5-22-17; 8:45 am]

BILLING CODE 5001-06-P